DEPARTMENT OF HOMELAND SECURITY

Federal Emergency Management Agency

44 CFR Part 65

[Docket No. FEMA-B-7703]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Division Director of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification.This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arkansas: Washington | City of Fayetteville 06-06-BA12P | November 9, 2006 November 16, 2006 Arkansas Democrat Gazette | The Honorable Dan Coody Mayor, City of Fayetteville 113 West Mountain Fayetteville, AR 72701 | November 20, 2006 | 050216
California: | Sacramento | Unincorporated areas of Sacramento County (06-09-BD69P) | November 9, 2006 November 16, 2006 The Daily Territorial | The Honorable Roberta Macglashan Chair, Sacramento County Board of Supervisors 700 H Street, Suite 2450 Sacramento, CA 95814 | December 1, 2006 | 060262
Contra Costa | City of Oakley (06-09-BA94P) | November 16, 2006 November 23, 2006 Contra Costa Times | The Honorable Brad Nix Mayor, City of Oakley 3231 Main Street Oakley, CA 94561 | February 22, 2007 | 060766
San Luis Obispo | City of Arroyo Grande (06-09-BA92P) | November 22, 2006 November 29, 2006 The Tribune | The Honorable Tony M. Ferrara Mayor, City of Arroyo Grande 215 East Branch Street Arroyo Grande, CA 93420 | February 28, 2007 | 060305
Colorado: | Boulder | Town of Lyons (06-08-B252P) | November 22, 2006 November 29, 2006 The Daily Camera | The Honorable Tim Kyer Mayor, Town of Lyons P.O. Box 49 Lyons, CO 80540 | February 28, 2007 | 080029
Boulder | Unincorporated areas of Boulder County (06-08-B252P) | November 22, 2006 November 29, 2006 The Daily Camera | The Honorable Ben Pearlman Chairman, Boulder County Board of Commissioners P.O. Box 471 Boulder, CO 80306 | February 28, 2007 | 080023
Delaware: Sussex | Unincorporated areas of Sussex County (05-03-A587P) | November 29, 2006 December 6, 2006 Delaware Wave | Mr. Robert L. Stickels County Administrator Sussex County No. 2 The Circle Georgetown, DE 19947 | March 7, 2007 | 100029
Florida: | Duvall | City of Jacksonville (06-04-BL18P) | November 20, 2006 November 27, 2006 Jacksonville Daily Record | The Honorable John Peyton Mayor, City of Jacksonville 117 West Duval Street Jacksonville, FL 32202 | October 31, 2006 | 120077
Duvall | City of Jacksonville (06-04-BL19P) | November 27, 2006 December 4, 2006 Jacksonville Daily Record | The Honorable John Peyton Mayor, City of Jacksonville City Hall at St. James, Fourth Floor 117 West Duval Street Jacksonville, FL 32202 | December 1, 2006 | 120077
Polk | City of Winter Haven (07-04-0025X) | November 9, 2006 November 16 2006 The Polk County Democrat | The Honorable Mike Easterling Mayor, City of Winter Haven 451 Third Street Northwest Winter Haven, FL 33881 | October 19, 2006 | 120271
Georgia: Peach | Unincorporated areas of Peach County (06-04-BM78P) | October 25, 2006 November 1, 2006 The Leader Tribune | The Honorable James Khoury Chairman, Peach County Board of Commissioners 205 West Church Street, Suite 204 Fort Valley, GA 31030 | January 25, 2007 | 130373
Maryland: Frederick | Unincorporated areas of Frederick County (06-03-B384P) | November 9, 2006 November 16, 2006 The Frederick News-Post | The Honorable John L. Thompson, Jr. President, Frederick County Board of County Commissioners Winchester Hall 12 East Church Street Frederick, MD 21701 | February 15, 2007 | 240027
Mississippi: Rankin | City of Brandon (06-04-B977P) | August 16, 2006 August 23, 2006 Rankin County News | The Honorable Carlo Martella Mayor, City of Brandon P.O. Box 1539 Brandon, MS 39043 | November 22, 2006 | 280143
Missouri: Warren | City of Wright City (06-07-B605P) | November 16, 2006 November 23, 2006 Warren County Record | The Honorable Eileen Klocke Mayor, City of Wright City P.O. Box 436 Wright City, MO 63390 | February 22, 2007 | 290654
Missouri: Warren | Unincorporated areas of Warren County (06-07-B605P) | November 16, 2006 November 23, 2006 Warren County Record | The Honorable Fred Vahle Presiding Commissioner, Warren County Board of Commissioners 104 West Main Street, Suite B Warrenton, MO 63383 | February 22, 2007 | 290443
South Dakota: | Brown | City of Aberdeen (06-08-B272P) | November 2, 2006 November 9, 2006 Aberdeen American News | The Honorable Mike Levsen Mayor, City of Aberdeen 123 South Lincoln Aberdeen, SD 57401 | February 8, 2007 | 460007
Brown | Unincorporated areas of Brown County (06-08-B272P) | November 2, 2006 November 9, 2006 Aberdeen American News | The Honorable Deb Knecht Chairman, Brown County Board of Commissioners 25 Market Street Aberdeen, SD 57401 | February 8, 2007 | 460006
Tennessee: Hamilton | City of Chattanooga (05-04-3186P) | November 16, 2006 November 23, 2006 Chattanooga Times Free Press | The Honorable Ron Littlefield Mayor, City of Chattanooga 1001 Lindsay Street Chattanooga, TN 37402 | February 22, 2007 | 370072
Texas: | Dallas | City of Hutchins (06-06-B194P) | November 22, 2006 November 29, 2006 The Daily Commercial Reocord | The Honorable Artis Johnson Mayor, City of Hutchins P.O. Box 500 Hutchins, TX 75141 | February 28, 2007 | 480179
Dallas | City of Wilmer (06-06-B194P) | November 22, 2006 November 29, 2006 The Daily Commercial Reocord | The Honorable Linda Root Mayor, City of Wilmer 128 North Dallas Avenue Wilmer, TX 75172 | February 28, 2007 | 480190
El Paso | City of El Paso (06-06-B414P) | November 9, 2006 November 16, 2006 El Paso Times | The Honorable John Cook Mayor, City of El Paso Two Civic Center Plaza, 10th Floor El Paso, TX 79901 | February 15, 2007 | 480214

(Catalog of Federal Domestic Assistance No. 83.100, “Flood Insurance.”)

Dated: December 22, 2006.
David I. Maurstad,
Director Mitigation Division, Federal Emergency Management Agency, Department of Homeland Security.

[FR Doc. E6-22523 Filed 1-3-07; 8:45 am]

BILLING CODE 9110-12-P